NATIONAL SKILL STANDARDS BOARD

Notice of Open Meeting

AGENCY: National Skill Standards Board.

ACTION: Notice of open meeting.

SUMMARY: The National Skill Standards Board was established by an Act of Congress, the National Skill Standards Act, Title V, Pub. L. 103-227. The 25-member National Skill Standards Board will serve as a catalyst and be responsible for the development and implementation of a voluntary national system of skill standards and certification through voluntary partnerships which have the full and balanced participation of business, labor, education, civil rights organizations and other key groups.

Time & Place: The meeting will be held from 8:30 am to approximately 12:00 pm on Thursday, March 22, 2001, at the Milton Hershey School, PO Box 830 Hershey, PA 17033, in Cocoa Rooms IV and V. (717) 520-2000.

Agenda: The agenda for the Board Meeting will include: an update from the Board's committees; presentations from representatives of the Education and Training Voluntary Partnership (E&TVP), Hospitality and Tourism Skill Standards Council (HTSSC), Manufacturing Skill Standards Council (MSSC) and Sales & Service Voluntary Partnership (S&SVP).

Public Participation: The meeting, from 8:30 am to 12:00 pm, is open to the public. Seating is limited and will be available on a first-come, first-served basis. Seats will be reserved for the media. Individuals with disabilities should contact Leslie Donaldson at (202) 254-8628 if special accommodations are needed.

FOR FURTHER INFORMATION CONTACT: Dave Wilcox, Executive Deputy Director at (202) 254-8628.

Signed at Washington, DC, 21st day of February, 2001.
Edie West,
Executive Director, National Skill Standards Board.

[FR Doc. 01-4654 Filed 2-23-01; 8:45 am]

BILLING CODE 4510-BF-M